DEPARTMENT OF TRANSPORTATION

Federal Aviation Administration

14 CFR Part 71

[Docket No. FAA-2005-22421; Airspace Docket No. 05-ASW-1]

RIN 2120-AA66

Revision of Jet Routes J-8, J-18, J-19, J-58, J-76, J-104 and J-244; and VOR Federal Airways V-60, V-190, V-263 and V-611; Las Vegas, NM

AGENCY: Federal Aviation Administration (FAA), DOT.

ACTION: Final rule; delay of effective date.

SUMMARY: This action changes the effective date of a final rule published in the Federal Register on October 18, 2005 (70 FR 60424), Airspace Docket No. 05-ASW-1. In that rule, the effective date was inadvertently published as December 22, 2005. This action changes the effective date to April 13, 2006.

EFFECTIVE DATE: In the final rule published October 18, 2005 (70 FR 60424), the effective date is corrected to read April 13, 2006.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

History

On October 18, 2005, a final rule was published in the Federal Register (70 FR 60424), Airspace Docket No. 05-ASW-1. This rule revised Jet Routes J-8, J-18, J-19, J-58, J-76, J-104 and J-244; and VOR Federal Airways V-60, V-190, V-263 and V-611; Las Vegas, NM. In that rule, the effective date was inadvertently published as December 22, 2005. This action changes the effective date to April 13, 2006.

Delay of Effective Date

Accordingly, pursuant to the authority delegated to me, the effective date for Airspace Docket No. 05-ASW-1, as published in the Federal Register on October 18, 2005 (70 FR 60424), Airspace Docket No. 05-ASW-1, is hereby delayed from December 22, 2005 to April 13, 2006.

Authority: 49 U.S.C. 106(g), 40103, 40113, 40120; E.O. 10854, 24 FR 9565, 3 CFR, 1959-1963 Comp., p. 389.

Issued in Washington, DC, on November 4, 2005.
Edith V. Parish,
Manager, Airspace and Rules.

[FR Doc. 05-22578 Filed 11-15-05; 8:45 am]

BILLING CODE 4910-13-P